FEDERAL ACCOUNTING STANDARDS ADVISORY BOARD

Notice of Issuance of Technical Bulletin 2009-1, Deferral of the Effective Date of Technical Bulletin 2006-1

AGENCY: Federal Accounting Standards Advisory Board.

ACTION: Notice.

Board Action: Pursuant to 31 U.S.C. 3511(d), the Federal Advisory Committee Act (Pub. L. 92-463), as amended, and the FASAB Rules of Procedure, as amended in April 2004, notice is hereby given that the Federal Accounting Standards Advisory Board (FASAB) has issued Technical Bulletin 2009-1, Deferral of the Effective Date ofTechnical Bulletin 2006-1.

Technical Bulletin 2009-1 defers the effective date of Technical Bulletin 2006-1, Recognition and Measurement ofAsbestos-Related Cleanup Costs, for two years to provide Federal agencies with additional time to resolve implementation issues that have been identified since Technical Bulletin 2006-1 was issued.

The Technical Bulletin is available on the FASAB home page http://www.fasab.gov/tchbl.html. Copies can be obtained by contacting FASAB at (202) 512-7350.

FOR FURTHER INFORMATION CONTACT: Wendy Payne, Executive Director, at (202) 512-7350.

Authority: Federal Advisory Committee Act, Public Law 92-463.

Dated: September 22, 2009.
Charles Jackson,
Federal Register Liaison Officer.

[FR Doc. E9-23252 Filed 9-24-09; 8:45 am]

BILLING CODE 1610-02-P